DEPARTMENT OF AGRICULTURE

Animal and Plant Health Inspection Service

[Docket No. APHIS-2017-0091]

Notice of Request for Revision to and Extension of Approval of an Information Collection; Importation of Fresh Bananas From the Philippines Into Hawaii and U.S. Territories

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the regulations for the importation of fresh bananas from the Philippines into Hawaii and U.S. Territories.

DATES: We will consider all comments that we receive on or before January 2, 2018.

ADDRESSES: You may submit comments by either of the following methods:

• Federal eRulemaking Portal: Go to http://www.regulations.gov/#!docketDetail;D=APHIS-2017-0091.

• Postal Mail/Commercial Delivery: Send your comment to Docket No. APHIS-2017-0091, Regulatory Analysis and Development, PPD, APHIS, Station 3A-03.8, 4700 River Road, Unit 118, Riverdale, MD 20737-1238.

Supporting documents and any comments we receive on this docket may be viewed at http://www.regulations.gov/#!docketDetail;D=APHIS-2017-0091 or in our reading room, which is located in Room 1141 of the USDA South Building, 14th Street and Independence Avenue SW., Washington, DC. Normal reading room hours are 8 a.m. to 4:30 p.m., Monday through Friday, except holidays. To be sure someone is there to help you, please call 202-799-7039 before coming.

FOR FURTHER INFORMATION CONTACT: For information on the importation of bananas from the Philippines, contact Mr. George Apgar Balady, Senior Regulatory Policy Specialist, RCC, IRM, PHP, PPQ, APHIS, 4700 River Road, Unit 133, Riverdale, MD 20737-1236; (301) 851-2240. For copies of more detailed information on the information collection, contact Ms. Kimberly Hardy, APHIS' Information Collection Coordinator, at (301) 851-2483.

SUPPLEMENTARY INFORMATION:

Title: Importation of Fresh Bananas From the Philippines Into Hawaii and U.S. Territories.

OMB Control Number: 0579-0415.

Type of Request: Revision to and extension of approval of an information collection.

Abstract: Under the Plant Protection Act (7 U.S.C. 7701 et seq.), the Secretary of Agriculture is authorized to carry out operations or measures to detect, eradicate, suppress, control, prevent, or retard the spread of plant pests new to the United States or not known to be widely distributed throughout the United States.

The regulations in “Subpart-Fruits and Vegetables” (7 CFR 319.56 through 319.56-80, referred to as the regulations) prohibit or restrict the importation of fruits and vegetables into the United States from certain parts of the world to prevent the introduction and dissemination of plant pests that are new to or not widely distributed within the United States.

The regulations in § 319.56-58 provide the requirements for the importation of fresh bananas from the Philippines into Hawaii and the U.S. Territories. As a condition of entry, the bananas must be produced in accordance with a systems approach that includes requirements for importation of commercial consignments, monitoring of fruit flies to establish low-pest prevalence places of production, harvesting only of hard green bananas, and inspection for quarantine pests by the national plant protection organization (NPPO) of the Philippines. In addition, the bananas must also be accompanied by a phytosanitary certificate with an additional declaration stating that they were grown, packed, and inspected and found to be free of quarantine pests in accordance with the regulations.

Allowing the importation of fresh bananas from the Philippines into Hawaii and U.S. Territories requires the completion of information collection activities such as an operational workplan, monitoring and oversight of production sites, records of forms and documents, trapping, identifying shipping documents, post-harvest inspections, and a phytosanitary certificate.

We are asking the Office of Management and Budget (OMB) to approve our use of these information collection activities, as described, for an additional 3 years.

The purpose of this notice is to solicit comments from the public (as well as affected agencies) concerning our information collection. These comments will help us:

(1) Evaluate whether the information collection is necessary for the proper performance of our agency's functions, including whether the information will have practical utility;

(2) Evaluate the accuracy of APHIS' estimate of the burden of the information collection, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 1.5 hours per response.

Respondents: Producers and importers of bananas from the Philippines and the NPPO of the Philippines.

Estimated annual number of respondents: 41.

Estimated annual number of responses per respondent: 32.

Estimated annual number of responses: 1,322.

Estimated total annual burden on respondents: 1,968 hours. (Due to averaging, the total annual burden hours may not equal the product of the annual number of responses multiplied by the reporting burden per response.)

All responses to this notice will be summarized and included in the request for OMB approval. All comments will also become a matter of public record.

Done in Washington, DC, this 31st day of October 2017.
Kevin Shea,
Administrator, Animal and Plant Health Inspection Service.

[FR Doc. 2017-23995 Filed 11-2-17; 8:45 am]

BILLING CODE 3410-34-P